DEPARTMENT OF HOMELAND SECURITY

Agency Information Collection Activities: BioWatch Filter Holder Log

AGENCY: Department of Homeland Security.

ACTION: 30-Day Notice and request for comments; Extension with change.

SUMMARY: The Department of Homeland Security, will submit the following Information Collection Request (ICR) to the Office of Management and Budget (OMB) for review and clearance in accordance with the Paperwork Reduction Act of 1995 (Pub. L. 104-13, 44 U.S.C. Chapter 35). DHS previously published this information collection request (ICR) in the Federal Register on May 2, 2011 at 76 FR 24504, for a 60-day public comment period. No comments were received by DHS. The purpose of this notice is to allow additional 30-days for public comments.

DATES: Comments are encouraged and will be accepted until August 17, 2011. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security, Attn.: Daniel Yereb, djy1@dhs.gov, 703-647-8052.

SUPPLEMENTARY INFORMATION: The Department of Homeland Security, Office of Health Affairs/OCMO Early Detection Division will collect information from BioWatch jurisdictions. The BioWatch Program operates aerosol collector equipment in approximately 30 U.S. jurisdictions to monitor for the presence of organisms that may be related to the deliberate release of a select subset of biological threat agents. Information is collected in writing by a representative of a BioWatch jurisdiction (either an employee, or a contractor) assigned responsibility for installing and removing filters from aerosol collection devices and transportation to local laboratories for sample analysis. A standard filter log form is completed for each sample and is archived by the BioWatch jurisdiction for a period of one year. The BioWatch Program reimburses participating jurisdictions for the cost of collection and laboratory analysis activities, including the preparation of the filter log form and other documentation. The creation of a written record for each sample is required to support law enforcement activities, including criminal prosecution in the case of a deliberate release of a biological agent.

Analysis

Agency: Department of Homeland Security.

Title: BioWatch Filter Holder Log.

OMB Number: 1601-0006.

Frequency: Daily.

Affected Public: State, Local, and Tribal Governments.

Number of Respondents: 522.

Estimated Time per Respondent: 0.0167 hours (1 minute).

Total Burden Hours: 3173 hours.

Richard Spires,
Chief Information Officer.

[FR Doc. 2011-17933 Filed 7-15-11; 8:45 am]

BILLING CODE 4410-9B-P